DEPARTMENT OF DEFENSE

Office of the Secretary

[Docket ID DoD-2016-OS-0011]

Proposed Collection; Comment Request

AGENCY: Office of the Secretary of Defense, DoD.

ACTION: Notice.

SUMMARY: In compliance with the Paperwork Reduction Act of 1995, the Office of the Secretary of Defense announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by April 18, 2016.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to The United States of America Vietnam War Commemoration, ATTN: Yvonne Schilz, 1101 Wilson Blvd., Suite 810, Arlington, VA 22209-2203 or call 1-877-387-9951.

SUPPLEMENTARY INFORMATION:

Title; Associated Form; and OMB Number: Vietnam War Commemoration Program Partner Events; DD Form 2956, DD Form 2957, Vietnam War 50th Commemoration Certificate of Honor (1) “In Memory Of” (DD Form x711), (2) “Former Vietnam POW” (DD Form x712), and (3) “Unaccounted For” (DD Form x713); OMB Control Number 0704-0500.

Needs and Uses: The information collection requirement is necessary to notify the United States of America Vietnam War Commemoration Program of Commemorative Partner's planned events. Information is submitted for inclusion on the Program's events calendar and to request event support in the form of materials and/or speakers from the program. The information collection is necessary to obtain, vet, record, process and provide Certificates of Honor to be presented on behalf of a grateful nation by partner organizations. Additionally, this collection is necessary for the partner organizations to communicate to the Commemoration program the results of their events and lessons learned.

Affected Public: Businesses or other for-profits; Not-for-profit institutions; Federal Government; State, local or tribal government, or, by exception, eligible individuals or households.

Annual Burden Hours: 5,500.

Number of Respondents: 11,000.

Responses per Respondent: Two (2), on an average annual basis.

Annual Responses: 22,000.

Average Burden per Response: 15 minutes.

Frequency: On occasion.

Respondents are representatives of commemorative partner organizations or immediate family members of veterans listed on the Vietnam Veterans Memorial in Washington, DC or, by exception, individuals, acting on behalf of eligible family members of American military personnel who are listed as missing and unaccounted for from the Vietnam War by the Department of Defense. Burden is reported as an annual average, and not every respondent will complete all five (5) forms.

Dated: February 9, 2016.
Aaron Siegel,
Alternate OSD Federal Register Liaison Officer, Department of Defense.

[FR Doc. 2016-02947 Filed 2-12-16; 8:45 am]

BILLING CODE 5001-06-P